ENVIRONMENTAL PROTECTION AGENCY

40 CFR Parts 9 and 98

[EPA-HQ-OAR-2019-0424; FRL-7230-04-OAR]

RIN 2060-AU35

Revisions and Confidentiality Determinations for Data Elements Under the Greenhouse Gas Reporting Rule; Extension of Comment Period

AGENCY: Environmental Protection Agency (EPA).

ACTION: Proposed rule; extension of public comment period.

SUMMARY: On June 21, 2022, the Environmental Protection Agency (EPA) published a proposed rule titled “Revisions and Confidentiality Determinations for Data Elements Under the Greenhouse Gas Reporting Rule” (87 FR 36920). The EPA is extending the comment period for this proposed rule.

DATES: The comment period for the proposed rule published on June 21, 2022, at 87 FR 36920, is extended. Comments must be received on or before October 6, 2022.

ADDRESSES: You may send your comments, identified by Docket ID No. EPA-HQ-OAR-2019-0424, by any of the following methods:

• Federal eRulemaking Portal: http://www.regulations.gov (our preferred method) Follow the online instructions for submitting comments.

• Mail: U.S. Environmental Protection Agency, EPA Docket Center, Office of Air and Radiation Docket, Mail Code 28221T, 1200 Pennsylvania Avenue NW, Washington, DC 20460.

• Hand Delivery: EPA Docket Center, WJC West Building, Room 3334, 1301 Constitution Avenue NW, Washington, DC 20004. The Docket Center's hours of operations are 8:30 a.m.-4:30 p.m., Monday-Friday (except Federal Holidays).

Instructions: All submissions received must include the Docket ID No. for this rulemaking. Comments received may be posted without change to https://www.regulations.gov/, including any personal information provided. Submit your comments, identified by Docket ID No. EPA-HQ-OAR-2019-0424, at https://www.regulations.gov (our preferred method), or the other methods identified in the ADDRESSES section. Once submitted, comments cannot be edited or removed from the docket. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Due to public health concerns related to COVID-19, the EPA Docket Center and Reading Room are open to the public by appointment only. Our Docket Center staff also continues to provide remote customer service via email, phone, and webform. Hand deliveries or couriers will be received by scheduled appointment only. For further information and updates on EPA Docket Center services, please visit us online at https://www.epa.gov/dockets.

The EPA continues to carefully and continuously monitor information from the Centers for Disease Control and Prevention (CDC), local area health departments, and our Federal partners so that we can respond rapidly as conditions change regarding COVID-19.

FOR FURTHER INFORMATION CONTACT: Jennifer Bohman, Climate Change Division, Office of Atmospheric Programs (MC-6207A), Environmental Protection Agency, 1200 Pennsylvania Ave. NW, Washington, DC 20460; telephone number: (202) 343-9548; email address: GHGReporting@epa.gov. For technical information, please go to the Greenhouse Gas Reporting Program (GHGRP) website, https://www.epa.gov/ghgreporting. To submit a question, select Help Center, followed by “Contact Us.”

SUPPLEMENTARY INFORMATION: On June 21, 2022, the Environmental Protection Agency (EPA) published a proposed rule titled “Revisions and Confidentiality Determinations for Data Elements Under the Greenhouse Gas Reporting Rule” (87 FR 36920). The public comment for this proposed rule was scheduled to end on August 22, 2022. The EPA is extending that deadline to October 6, 2022. This extension will provide the general public additional time for participation and comment.

List of Subjects

40 CFR Part 9

Environmental protection, Administrative practice and procedure, Reporting and recordkeeping requirements.

40 CFR Part 98

Environmental protection, Administrative practice and procedure, Greenhouse gases, Incorporation by reference, Reporting and recordkeeping requirements, Suppliers.

Paul M. Gunning,
Director, Climate Change Division, Office of Atmospheric Programs.

[FR Doc. 2022-15402 Filed 7-18-22; 8:45 am]

BILLING CODE 6560-50-P